DEPARTMENT OF THE INTERIOR

Geological Survey

[Docket No. USGS-2025-0105; OMB Control Number 1028-0132; GX19ZQ00G402A00]

Agency Information Collection Activities; ShakeAlert

AGENCY: U.S. Geological Survey, Interior.

ACTION: Notice of information collection; request for comment.

SUMMARY: In accordance with the Paperwork Reduction Act (PRA), the U.S. Geological Survey (USGS) is proposing an extension to an existing information collection for approval by the Office of Management and Budget (OMB).

DATES: Interested persons are invited to submit comments on or before November 28, 2025.

ADDRESSES: You may submit comments by one of the following methods:

Internet: https://www.regulations.gov. Search for and submit comments on Docket No. USGS-2025-0105.

U.S. Mail: USGS, Information Collections Clearance Officer, 12201 Sunrise Valley Drive, MS 159, Reston, VA 20192.

You may view this information collection request (ICR) at http://www.reginfo.gov/public/do/PRAMain.

FOR FURTHER INFORMATION CONTACT: Robert M. de Groot by email at rdegroot@usgs.gov or by telephone at 626-583-7225. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA of 1995 (44 U.S.C. 3501 et seq.) and 5 CFR 1320.8(d)(1), all information collections require approval under the PRA.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: This information is being collected for the purposes of understanding 1) the continued feasibility of ShakeAlert-powered alerts through the wireless emergency alerts via the Integrated Public Alerts and Warning System (IPAWS) managed by the Federal Emergency Management Agency, and 2) the latency of transmissions in California, Oregon, and Washington. This collection is critical to determine technological latencies of ShakeAlert notifications through IPAWS. Better understanding is required to know how much time people will have to take protective actions once they receive an alert. Further, knowledge of where the latencies exist, and why, can help us improve and streamline our systems. This involves live testing of the system with a population reporting back to us.

Title of Collection: ShakeAlert.

OMB Control Number: 1028-0132.

Form Number: None.

Type of Review: Extension of a currently approved OMB control number.

Respondents/Affected Public: Individual households.

Total Estimated Number of Annual Respondents: 1,000.

Total Estimated Number of Annual Responses: 1,000.

Estimated Completion Time per Response: 7 minutes.

Total Estimated Number of Annual Burden Hours: 117.

Respondent's Obligation: Voluntary.

Frequency of Collection: Bi-annually.

Total Estimated Annual Nonhour Burden Cost: None.

An agency may not conduct or sponsor, nor is a person required to respond to, a collection of information unless it displays a currently valid OMB control number.

The authority for this action is the Paperwork Reduction Act of 1995 (44 U.S.C. 3501 et seq.).

Allison Faris,
Deputy Center Director, Southwest Region.

[FR Doc. 2025-18888 Filed 9-26-25; 8:45 am]

BILLING CODE P